DEPARTMENT OF THE INTERIOR

National Park Service

[NPS-WASO-NRNHL-DTS#-35356; PPWOCRADI0, PCU00RP14.R50000]

National Register of Historic Places; Notification of Pending Nominations and Related Actions

AGENCY: National Park Service, Interior.

ACTION: Notice.

SUMMARY: The National Park Service is soliciting electronic comments on the significance of properties nominated before February 11, 2023, for listing or related actions in the National Register of Historic Places.

DATES: Comments should be submitted electronically by March 13, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 11, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

CALIFORNIA

San Bernardino County

Stone Hotel, The, 35630 Santa Fe St., Daggert, SG100008742

FLORIDA

Alachua County

Church of God by Faith, 302 SW 8th Ave., Gainesville, SG100008753

Putnam County

Palatka Water Works, 1101 Whitewater Dr., Palatka, SG100008739

KENTUCKY

Campbell County

Fort Thomas Women's Club, 8 North Fort Thomas Ave., Fort Thomas, SG100008738

Fayette County

Elmendorf, 611 and 639 Iron Works Pike, 3931 Paris Pike, Lexington, SG100008737

LOUISIANA

Acadia Parish

Maison Daboval, 305 East Louisiana Ave., Rayne, SG100008747

Jefferson Parish

Valence House, (Louisiana Coastal Vernacular: Grand Isle 1780-1968 MPS), 205 Cemetery Ln., Grand Isle, MP100008740

Orleans Parish

First National Life Insurance Building, (Non-Residential Mid-Century Modern Architecture in New Orleans MPS), 1000 Howard Ave., New Orleans, MP100008749

St. Tammany Parish

Division of St. John Historic District (Boundary Decrease), 19 full and 11 partial blks. roughly centered on US 190 Bus\LA 21, Covington, BC100008751

NEW YORK

Niagara County

Schoellkopf Hall, 2900 Lewistown Rd., Niagara Falls, SG100008744

OHIO

Muskingum County

Pioneer School, 952 East Main St., Zanesville, SG100008741

UTAH

Salt Lake County

Butler School Teachers Dormitory, 2680 East Fort Union Blvd., Cottonwood Heights, SG100008743

Salt Lake City 15th Ward LDS Meetinghouse, 915 West 100 South, Salt Lake City, SG100008752

VERMONT

Addison County

Middlebury Village Historic District (Boundary Increase), Roughly inclusive of Weybridge, Seymour, North Pleasant, Seminary, Washington, Court, South, South Main, and College Sts., Middlebury, BC100008746

Additional documentation has been received for the following resources:

ARKANSAS

Poinsett County

Lepanto Commercial Historic District (Additional Documentation), Roughly bounded by Holmes St., Little R., Dewey St. & Alexander Ave., Lepanto, AD09000743

COLORADO

Chaffee County

Chaffee County Courthouse and Jail Buildings (Additional Documentation), 506 and 516 East Main St.; 113 and 205 North Court St., Buena Vista, AD79000575

LOUISIANA

St. Tammany Parish

Division of St. John Historic District (Additional Documentation), 19 full and 11 partial blks. roughly centered on US 190 Bus\LA 21, Covington, AD82000461

VERMONT

Addison County

Middlebury Village Historic District (Additional Documentation), Roughly inclusive of Weybridge, Seymour, North Pleasant, Seminary, Washington, Court,, South, South Main, and College Sts., Middlebury, AD76000223

Authority: Section 60.13 of 36 CFR part 60.

Dated: February 15, 2023.
Sherry A Frear,
Chief, National Register of Historic Places/National Historic Landmarks Program.

[FR Doc. 2023-03868 Filed 2-23-23; 8:45 am]

BILLING CODE 4312-52-P